DEPARTMENT OF THE INTERIOR

National Park Service

[NPS WSSO EQD SSD PPWON RADE3PPMR SNR1N.NM0000]

Proposed Information Collection; Comment Request: Social Values of Ecosystem Services at Cape Lookout National Seashore

AGENCY: National Park Service, Interior.

ACTION: Notice and request for comments.

SUMMARY: We (National Park Service) will ask the Office of Management and Budget (OMB) to approve the Information Collection Request (ICR) described below. This collection will be used to survey two subsets of visitor groups and local community members about the values they place on cultural and natural resources at Cape Lookout National Seashore (CALO). To comply with the Paperwork Reduction Act of 1995 and as a part of our continuing efforts to reduce paperwork and respondent burden, we invite the general public and other Federal agencies to comment on this ICR. A Federal agency may not conduct or sponsor and a person is not required to respond to a collection of information unless it displays a currently valid OMB control number.

DATES: To ensure that your comments on this ICR are considered, OMB must receive them on or before June 24, 2013.

ADDRESSES: Please submit written comments on this information collection directly to the Office of Management and Budget (OMB) Office of Information and Regulatory Affairs, Attention: Desk Officer for the Department of the Interior, via email to OIRA_Submission@omb.eop.gov or fax at 202-395-5806; and identify your submission as 1024-NEW: CALO Survey. Please also send a copy of your comments to Phadrea Ponds, Information Collection Coordinator, National Park Service, 1201 Oakridge Drive, Fort Collins, CO 80525 (mail); or phadrea_ponds@nps.gov (email). Please reference Information Collection 1024-NEW: CALO Survey in the subject line.

FOR FURTHER INFORMATION CONTACT: Eva DiDonato at eva_didonato@nps.gov (email); or by mail at 1201 Oakridge Drive, Fort Collins, CO 80525. You may also access this ICR at www.reginfo.gov.

I. Abstract

We will conduct a survey of Cape Lookout National Seashore visitors and a random sample of the general public in the local communities surrounding the park. The collection will be used to understand the social values that visitors and residents of the local community place on cultural and natural resources of the park. The information from this collection will provide National Park Service managers and planners with scientifically sound data about visitors that can be used to prepare resource management planning documents.

II. Data

OMB Control Number: None. This is a new collection.

Title: Social Values of Ecosystem Services at Cape Lookout National Seashore.

Type of Request: New.

Affected Public: General Public; Park Visitors and Local Residents.

Respondent Obligation: Voluntary.

Frequency of Collection: One time.

Estimated Number of Annual Responses: 5,547.

Estimated Annual Burden Hours: 842 hours. We estimate the public reporting burden will average 20 minutes to complete the visitor or resident survey and two minutes to complete the initial onsite contact and/or nonresponse survey.

Estimated Annual Reporting and Recordkeeping “Non-Hour Cost”: None.

III. Request for Comments

On August 2, 2012, we published a Federal Register notice (77 FR 46113) announcing that we would submit this ICR to OMB for approval. Public comments were solicited for 60 days ending October 1, 2012. We received one comment that did not address the information collection requirements; therefore, we did not make any changes to this collection based on this comment.

We again invite comments concerning this ICR on: (1) Whether or not the proposed collection of information is necessary for the agency to perform its duties, including whether or not the information will have practical utility; (2) the accuracy of our estimate of the burden for this collection of information; (3) ways to enhance the quality, utility, and clarity of the information to be collected; and (4) ways to minimize the burden of the collection of information on respondents, including the use of automated collection techniques or other forms of information technology.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: May 21, 2013.
Leonard Stowe,
Acting Information Collection Clearance Officer, National Park Service.

[FR Doc. 2013-12444 Filed 5-23-13; 8:45 am]

BILLING CODE 4312-EH-P